DEPARTMENT OF STATE

[Public Notice 8530]

Certification Under the Department of State, Foreign Operations, and Related Programs Appropriations Act

Certification Pursuant to Section 7041(a) of the Department of State, Foreign Operations, and Related Programs Appropriations Act, 2012 (DIV. I, Pub. L. 112-74) as Carried Forward by the Full Year Continuing Appropriations Act, 2013 (DIV. F, Pub. L. 113-6)

By virtue of the authority vested in me as Secretary of State pursuant to section 7041(a) of the Department of State, Foreign Operations, and Related Programs Appropriations Act, 2012 (Div. I, Pub. L. 112-74), as carried forward by the Full Year Continuing Appropriations Act, 2013 (Div. F, Pub. L. 113-6), I hereby certify that the Government of Egypt is meeting its obligations under the 1979 Egypt-Israel Peace Treaty.

This determination shall be published in the Federal Register and, along with the accompanying Memorandum of Justification, shall be reported to Congress.

Dated: May 3, 2013.
John F. Kerry,
Secretary of State.

Editorial Note: This document arrived at the Federal Register on November 20, 2013.

[FR Doc. 2013-28227 Filed 11-26-13; 8:45 am]

BILLING CODE 4710-31-P